DEPARTMENT OF THE INTERIOR

National Park Service

Record of Decision; Final Fort Bowie General Management Plan and Final Environmental Impact Statement; Fort Bowie National Historic Site, Arizona

The Department of the Interior, National Park Service has prepared this Record of Decision on the General Management Plan and Final Environmental Impact Statement for Fort Bowie National Historic Site. This Record of Decision includes a description of the background of the project, a statement of the decision made, synopses of other alternatives considered, the basis for the decision, findings on impairment of park resources and values, a description of the environmentally preferable alternative, a listing of measures to minimize environmental harm, and an overview of public and agency involvement in the decision-making process.

Background of the Project

A comprehensive general management plan (GMP) is needed to manage resources and guide development and use. The master plan approved for Fort Bowie in 1975 is outdated and inadequate to deal with the variety of issues facing the historic site.

The purpose of the new GMP is to decide what kinds of resource conditions and visitor experiences should ultimately be achieved and maintained throughout the historic site. The process started in early May 1998 and involved joint scoping for GMPs for both Fort Bowie NM and Fort Bowie NHS. A newsletter invited the public to attend meetings to discuss both plans. Notices of the public meetings were also sent to nearby newspapers. Four meetings were held the week of May 18th in the towns of Portal, Willcox, and Bowie, and at a school just outside of Fort Bowie NM. A total of 19 people attended the meetings. The GMP process was described at each meeting, as were the two parks. There was general appreciation expressed for the parks, and recommendations were made not to change them. All suggestions were discussed and notes were taken. Another 24 mailed responses were received from newsletter readers. In addition to the newsletter, letters were also sent to three Apache tribes (White Mountain, San Carlos and Tonto), the Yavapai Tribe, Mohave Tribe and one nation (Mescalero) in Arizona, New Mexico, and Oklahoma, and to two interested individuals (American Indians). No responses were received.

A Notice of Intent to publish an Environmental Impact Statement was published in the Federal Register in June of 1999. A 30-day public comment period followed ending on July 15, 1999. A Web site (http://www.nps.gov/planning/fobo) was established to facilitate making information about the planning process available to the public. A total of 5 responses were received requesting information on the planning process. Groups included one organization interested in land issues, one interested in handicapped accessibility, and two unaffiliated individuals.

The purpose of the Fort Bowie General Management Plan is to present a comprehensive management plan and guide the management of the Fort Bowie National Historic Site for the next 12 to 15 years. Two alternatives were considered—a no-action and the park proposal. The proposed general management plan for the Fort Bowie National Historical Site continues the concept established—the principle of a very low level of development, intended to allow the visitor a “discovery” experience in a place of “historic abandonment.” Alternatives A (the NPS Proposal) recognizes that the current level of development, interpretation, and the pattern of visitor use with some minor modifications are appropriate for Fort Bowie and would be maintained. The concepts presented in the Final Fort Bowie NHS General Management Plan/FEIS are based on a thorough consideration of the best-available information on park resources and the visitor experience. Alternative A in the Final Fort Bowie NHS General Management Plan/FEIS presents a distinct vision for preserving the resources that contribute to Fort Bowie National Historic Site's cultural and natural values while making the resources available to people for their enjoyment, education, and recreation.

Decision (Selected Action)

The National Park Service will implement Alternative A as described in the Fort Bowie National Historic Site General Management Plan and Final Environmental Impact Statement issued in March 2001. The selected alternative provides an overall combination of actions to restore natural processes, preserve cultural resource values, reduce harmful environmental impacts and continue to provide opportunities for high quality visitor experiences based on resource values. With the exceptions described below, the current level of development and interpretation and the pattern of visitor use would be maintained. In summary, the following would be implement. This is also documented in more detail in the plan.

Apache Pass Road—The approach to Fort Bowie, on the existing Apache Pass Road, serves as an introduction to the undeveloped nature of the park, and the park would encourage that it be retained as a dirt road. Paving the road could lead to its widening and straightening, and hence to higher speeds that might cause accidents and injury to wildlife. Therefore the NPS would request that Apache Pass Road not be paved from Emigrant Canyon across Apache Pass. The park would use its influence to prevent its paving unless the road is rerouted to the north, outside the park.

Overlook—The only spot from which the fort can be seen from the road is from a minimally developed overlook. Because the overlook is on Bureau of Land Management (BLM) land, the park would work in partnership with BLM to improve the parking and make the trail to the lookout handicapped accessible.

Park Entrance/Trailhead/Trail—Under the proposal, the entrance area/trailhead would be redesigned into a setting that is appropriate for the spot that introduces visitors to the fort trail and the fort itself. An open-sided information and interpretation shelter, about 15 feet by 20 feet, would be the formal introduction to the park. It would be located at the roadside, near the existing rest room. The shelter would be built of slump block to give an adobe look and match existing buildings. The shelter would provide a description of the trail and the historic resources along it and would encourage the reader to take the trail, by describing it as an informational and scenic introduction to the fort. Information on how to reach the fort by road will be provided to visitors with mobility impairments.

A phone or radio at the shelter would connect the visitor directly to the ranger station at the fort for additional information about accessibility or other matters. A surfaced handicapped parking space would be provided close to the shelter and rest room. No changes are anticipated to the route or historic nature of the trail. The trail would continue to serve as the primary interpretive route to the historic spots along the way and as a mood-setter for the visit to the fort itself.

When additional research provides the necessary guidance, the cemetery's enclosing fence would be relocated to its historic location, as would the incorrectly placed grave markers (information is based upon historical park data.) More complete interpretation would be provided.

Park Landscape—The park would continue to maintain the landscape in the valley along the access trail to its 1862-1894 appearance by removing mesquite and exotic vegetation. The area of mesquite and exotic removal would be increased from its present acreage and maintained by an active fire management program.

Ruins Preservation—The first fort area would continue to receive routine preservation treatment of the exposed stone foundations and would be interpreted. There would be no changes to the site or its visitor use.

Until a better means of preserving exposed adobe is available (one that is esthetically and historically acceptable), the second fort ruins would remain encapsulated within lime plaster. In the meantime, the park would pursue two objectives:

• Seek adequate and assured funding to maintain and test the encapsulated ruins.

• Contribute to preservation research and experimentation.

The park would cooperate with and encourage such research, both generally and at Fort Bowie. As successful techniques are developed, the NPS would consider their applicability to the park ruins.

An interpretive theme for the park would deal with this preservation problem, especially

• the nature of adobe and why it melts

• the problem of finding a satisfactory adobe preservation technique for a historic site

• the benefits and disadvantages of encapsulation and why it is being used

• an exhibition adobe wall (historic or new) showing the means of construction and the results of melting

Vegetation Management—Vegetation in and near the fort would continue to be managed to retain the open, easily viewed appearance. Exotic vegetation would be removed.

Visitor Center—No changes are recommended for the visitor center building, unless the construction of a new rest room is incorporated with the existing structure.

This plan recognizes the need to provide accessibility into the fort and visitor center and recognizes that the only feasible means of doing it is from the housing/maintenance area. A short driveway would be constructed from the maintenance area to the visitor center along the existing utility corridor. Parking for two vehicles would be provided close to the visitor center.

Accessibility—As stated previously, the best and most satisfying means of getting to the fort is via the long trail from the trailhead, because from it the historical and scenic character of the NHS is revealed bit by bit to the walker. Visitors who are disabled, entering from the maintenance area, miss that introduction. Therefore, it would be necessary to replace the actual experience with interpretive material at the visitor center. This printed or audiovisual material would try to capture the experience of the trail and its unfolding historical resources for those who are unable to enjoy it in person.

An accessible rest room would be provided in the fort area, and as many of the paths among the ruins as feasible would also be made accessible. The park would discuss with accessibility experts the most practical type of wheelchair to have at the visitor center for loan to visitors.

Administrative Area—This plan recommends no changes to the park housing area. Within the existing “footprint” of the maintenance area, a pad with utility hookups would be constructed for a volunteer-owned recreation vehicle. The existing administrative road would continue to provide access to the housing/maintenance area and maintenance access to the fort and visitor center.

Water System—A new well would be dug closer to the housing area and piped into the system, additional water storage would be added, and a fire sprinkler system would be added to the visitor center. The existing well would be capped (unless it is needed for providing water to cattle), the 2/3 mile of surface pipe would be removed, and the ground restored to a natural condition.

Old Butterfield Trail—The Old Butterfield Trail, west of its junction with the main park trail, and its section of the park, would not be altered. This area would retain its “discovery” environment.

Grazing—Grazing would be phased out and the park boundary would be fenced. Historic Apache Spring would continue to be piped out of the park for livestock use. The current Permittee has ½ water right to Apache Spring.

Boundary—The entire park would be fenced and a boundary study would be conducted.

Operating Expenses—The proposed rest room, the boundary fence, and the accessible route to the visitor center will require some maintenance, but it will be minimal and will be offset by the removal of the cattle fence and the 2/3-mile-long water pipe. The changes recommended by this GMP would cause little or no increase to operating expenses.

Commercial Services—Individual business permits (covering both Fort Bowie and Chiricahua) allow guided horseback, hiking, and bus tours. Books are sold in the visitor center by the Southwest Parks and Monuments Association. No addition commercial services are needed or recommended.

Park Museum and Collections—The proposal calls for improvement in the heating, ventilation, and air conditioning system for the protection of collections.

Other Alternatives

No-Action Alternative

Under the no-action alternative, existing conditions as described below would continue at Fort Bowie NHS.

Visitors would continue to reach the historic site by traveling on the Apache Pass Road, a partially paved, graded county road. The primitive pullout a short distance before the trailhead, with a dirt parking area, trail to the overlook, and fort sighting pipe would be retained.

Visitors would continue to reach the fort from the existing trailhead. The unimproved parking area, accessible composting toilet, a metal and wood shade structure with benches, and three interpretive waysides would be retained. Visitors would continue to leave their cars and approach the ruins of the fort via a 1½-mile trail. The existing fence, grave markers, and interpretive signs describing the cemetery would be retained. In the triangular valley leading to the fort, vegetation would continue to be managed, at a very slow rate, to restore and maintain the appearance of the historic fort based on the results of the cultural landscape report. In the first and second fort areas, the routine preservation of stone and adobe masonry foundations would continue. Vegetation would be managed by removing trees growing next to and among the ruins in order to retain the open area to protect and view ruins. Exotic species would be removed to protect native species. The visitor center, pit toilet, and trails throughout the fort areas would be retained. Interpretation, sales activities, and office space would continue to be the main functions in the visitor center.

Under the no-action alternative, the houses, maintenance complex, offices, and utilities would be retained. Water would continue to be piped over ground to the housing/administrative area. Administrative access to the fort would continue along the existing dirt road, including one paved section on a steep segment of the road.

The Butterfield Trail would continue to be used and maintained as a horse and hiking trail, with vegetation management to control exotic species.

Grazing in the park would continue at its present rate under the no-action alternative. The historic Apache Spring would continue to be used as a water source for cattle grazing off of park land.

Basis for Decision

After careful consideration of public comments received throughout the planning process, including comments on the Fort Bowie NHS General Management Plan/Draft Environmental Impact Statement, Alternative A has been selected for this Record of Decision. This alternative best accomplishes the legislated purposes of Fort Bowie National Historic Site and the statutory mission of the National Park Service to provide long-term protection of Fort Bowie National Historic Site's resources and values while allowing for visitor use and visitor enjoyment. The selected action also best accomplishes the stated purposes of the Fort Bowie NHS General Management Plan. Consequently, the selected action conserves values embodied in the Organic Act to:

• Accomplish the mission of the National Park Service

• Achieve the purposes and criteria of the Fort Bowie NHS General Management Plan, and

• Prevents impairment of park resources in a manner that meets legal and policy requirements

Protect and Enhance Natural and Cultural Resources

Through its combination of restoration of areas to natural conditions, resource protection, and the location or relocation of facilities, Alternative A exceeds the other alternatives in its protection and enhancement of natural resources and removal of facilities from highly valued resource areas.

Alternative A protects highly valued natural and cultural resources through the restoration Arizona vegetation communities. Habitat connectivity encourages biodiversity and promotes a more stable biological system.

Alternative A preserves cultural and historic features of the park through a shift in interpretive them emphasizing understanding of cultural and natural resources and their environment—(ie. the nature of adobe and why it melts, the problem of finding a satisfactory adobe preservation technique for a historic site, the benefits and disadvantages of encapsulation and why it is being used) The importance of the park landscape and ruins preservation is also emphasized.

Alternative A will better preserve the historic integrity of the area than the other action alternatives by retaining character-through the park's request that Apache Pass Road not be paved from Emigrant Canyon across Apache Pass. The park would use its influence to prevent its paving unless the road is rerouted to the north, outside the park.

In summary, Alternative A includes actions that are beneficial to the natural resources and cultural resources than other alternatives.

Enhance Visitor Experience

The criteria to enhance the visitors' experience by fostering a diversity of opportunities and by encouraging a high degree of resource stewardship through interpretation, orientation, and education, will be best achieved by implementing Alternative A. This would be done through increased awareness and understanding of park resources and accessibility improvements for disabled.

Alternative A provides increased opportunities for experiencing Fort Bowie NHS on foot by providing additional trails.

Provide Effective Operations

The management of park-wide operations would retain its existing operational structure. Small functional improvements would be made to facilities.

Provide Appropriate Land Uses

The criterion articulated in the Purpose and Need of the Final Fort Bowie NHS General Management Plan/FEIS to site new facilities so that, in aggregate, they help achieve a benefit for park resources, will be met under Alternative A. Application of management prescriptions guide appropriate land uses.

Findings on Impairment of Park Resources and Values

The National Park Service has determined that implementation of Alternative A of the Fort Bowie NHS General Management Plan will not constitute an impairment to Fort Bowie National Historic Site's resources and values. This conclusion is based on a thorough analysis of the environmental impacts described in the Final Fort Bowie NHS General Management Plan/FEIS, the public comments received, relevant scientific studies, and the professional judgment of the decision-maker guided by the direction Management Policies 2001. While the plan has some negative impacts, in all cases these adverse impacts are the result of actions taken to preserve and restore other park resources and values. Overall, the plan results in benefits to park resources and values, opportunities for their enjoyment, and it does not result in their impairment.

In determining whether impairment may occur, park managers consider the duration, severity, and magnitude of the impact; the resources and values affected; and direct, indirect, and cumulative effects of the action. According to National Park Service Policy, “An impact would be more likely to constitute an impairment to the extent that it affects a resource or value whose conservation is: (a) Necessary to fulfill specific purposes identified in the establishing legislation or proclamation of the park; (b) Key to the natural or cultural integrity of the park or to opportunities for enjoyment of the park; or (c) Identified as a goal in the park's general management plan or other relevant National Park Service planning documents.”

This policy does not prohibit impacts to park resources and values. The National Park Service has the discretion to allow impacts to park resources and values when necessary and appropriate to fulfill the purposes of a park, so long as the impacts do not constitute impairment. Moreover, an impact is less likely to constitute impairment if it is an unavoidable result of an action necessary to preserve or restore the integrity of park resources or values.

Human activity and past development have resulted in the ongoing disruption of natural systems and processes in Fort Bowie NHS for generations. The No Action Alternative would result in future unplanned and uncoordinated actions that are merely reactive to immediate concerns. Furthermore, these actions would likely be responsive to immediate, short-term, adverse impacts that demand attention, but may result in long-term impairment to park values and resources.

The actions comprising Alternative A will achieve the goals of the Fort Bowie NHS General Management Plan (which include protecting and enhancing the natural and cultural resources of Fort Bowie NHS and providing opportunities for high-quality, resource-based visitor experiences) in a comprehensive, integrated manner that takes into account the interplay between resource protection and visitor use. Beneficial effects identified in the Final FEIS include effects related to restoring and protecting park resources and values.

In conclusion, the National Park Service has determined that the implementation of Alternative A will not result in impairment of resources and values in Fort Bowie National Historic Site.

Environmentally Preferable Alternative

Environmentally preferable is defined as “the alternative that will promote the national environmental policy as expressed in the National Environmental Policy Act's Section 101. NEPA Section 101 states that “* * * it is the continuing responsibility of the Federal Government to * * * (1) fulfill the responsibilities of each generation as trustee of the environment for succeeding generations; (2) assure for all Americans safe, healthful, productive, and aesthetically and culturally pleasing surroundings; (3) attain the widest range of beneficial uses of the environment without degradation, risk to health or safety, or other undesirable and unintended consequences; (4) preserve important historic, cultural, and natural aspects of our national heritage, and maintain, wherever possible, an environment which supports diversity, and variety of individual choice; (5) achieve a balance between population and resource use which will permit high standards of living and a wide sharing of life's amenities; and (6) enhance the quality of renewable resources and approach the maximum attainable recycling of depletable resources.” The environmentally preferable alternative for the Fort Bowie NHS General Management Plan is based on these national environmental policy goals.

Alternative A

This alternative will realize each of the provisions of the national environmental policy goals stated in NEPA Section 101. Alternative A will protect and enhance the natural and cultural resources of Fort Bowie NHS, providing opportunities for high-quality, resource-based visitor experiences in a comprehensive, integrated manner. Alternative A takes into account the interplay between resource protection and visitor use and also restores and protects park resources and values. Alternative A will protect and enhance values of Fort Bowie NHS. These actions will further goals 1, 3, and 4 of NEPA Section 101.

No Action

This alternative represents the current management direction with no dramatic or comprehensive changes taking place in the management of Fort Bowie NHS. Although the No Action alternative would include the least change to cultural resources, it would not result in the same level of environmental protection and restoration for natural resources, including floodplains as would occur under the various action alternatives. In having lesser protection and restoration of natural resources, including highly valued resources, the No Action alternative would not fully achieve provisions 1, 3, 4, and 5 of Section 101 of NEPA. Although existing patterns of visitor use would continue, traffic congestion and existing impacts upon visitor experience in Fort Bowie NHS would not be remedied. Compared to the action alternatives, the No Action alternative would be least effective in attaining goal 3 of NEPA, as described in Section 101, in that it would have the narrowest range of beneficial uses that would occur without degradation of natural and cultural resources in Fort Bowie NHS. Because of existing impacts that are not remedied and that relate to provisions 1, 2, 3, 4, and 5 of Section 101 (as discussed above), these provisions would not be realized by the No Action Alternative.

Summary

The National Park Service has determined that the environmentally preferable alternative is Alternative A. While some specific actions under other alternatives may achieve similar or in some cases greater levels of protection for certain cultural resources, natural resources, and/or visitor experience than under Alternative A, in aggregate, this alternative best achieves the six conditions prescribed under Section 101 of NEPA. While many of the actions in other alternatives may be similar to Alternative A in their effect and consequence, Alternative A (1) provides a high level of protection of natural and cultural resources while concurrently attaining the widest range of neutral and beneficial uses of the environment without degradation; (2) maintains an environment that supports diversity and variety of individual choice; and (3) integrates resource protection with opportunities for an appropriate range of visitor uses.

Measures To Minimize Environmental Harm

The National Park Service has investigated all practical means to avoid or minimize environmental impacts that could result from implementation of the selected action. The measures have been incorporated into Alternative A, and are presented in detail in the Final Fort Bowie NHS General Management Plan/Supplemental Environmental Impact Statement.

A consistent set of mitigation measures would be applied to actions that result from this plan. Monitoring and enforcement programs will oversee the implementation of mitigation measures. These programs will assure compliance monitoring; biological and cultural resource protection; traffic management, noise, and dust abatement; noxious weed control; pollution prevention measures; visitor safety and education; revegetation; architectural character; and other mitigation measures.

Mitigation measures will also be applied to future actions that are guided by this plan. In addition, the National Park Service will prepare appropriate compliance reviews (i.e., National Environmental Policy Act, National Historic Preservation Act, and other relevant legislation) for these future actions.

Public and Interagency Involvement

On June 14, 199, the National Park Service published in the Federal Register (Vol 64 pp 31874) a notice of intent to prepare an environmental impact statement for the Fort Bowie NHS General Management Plan. The Final Fort Bowie General Management Plan/FEIS has been developed pursuant to sections 102(2)” of the National Environmental Policy Act (Public Law 91-190) and the Council on Environmental Quality regulations (40 CFR 1508.22). Through scoping, a formal public comment process, public meetings and outreach, and meetings with government entities on the Draft Fort Bowie NHS General Management Plan/DEIS, the National Park Service conducted this planning process in consultation with affected federal agencies, state and local governments, tribal groups, and interested organizations and individuals.

Scoping

Scoping typically occurs at the beginning of a planning process. However, in the case of the Draft Fort Bowie NHS General Management Plan/FEIS, scoping began in 1992. Scoping sessions by the park staff, a public open house, a press release, and a letter to 392 people on the mailing list for both Chiricahua NM and Fort Bowie National Historic Site (NHS) raised a series of issues. After a national reorganization in the National Park Service, the general management planning process was restarted in 1996 with a different planning team. The first step in the second process was a review of the work previously done and the incorporation of the 1992 public comments.

In early May 1998, a newsletter was mailed to all interested parties and those on the park mailing list informing them of GMP projects for both Chiricahua NM and Fort Bowie NHS. The newsletter invited the public to attend meetings to discuss both plans. Notices of the public meetings were also sent to nearby newspapers. Four meetings were held the week of May 18th in the towns of Portal, Willcox, and Bowie, and at a school just outside of Fort Bowie NM. A total of 19 people attended the meetings. The GMP process was described at each meeting, as were the two parks. There was general appreciation expressed for the parks, and recommendations were made not to change them.

All suggestions were discussed and notes were taken. Another 24 mailed responses were received from newspaper readers. Letters were also sent to six Apache tribes and one nation in Arizona, New Mexico, and Oklahoma, and to two interested individual American Indians. No responses were received.

A Notice of Intent to publish an Environmental Impact Statement was published in the Federal Register in June of 1999. A 30-day public comment period followed ending on July 15, 1999. A website (http://www.nps.gov/planning/fobo) was established to facilitate making information about the planning process available to the public. A total of 5 responses were received requesting information on the planning process. Groups included one organization interested in land issues, one interested in handicapped accessibility, and two unaffiliated individuals.

The DEIS Notice of Availability (NOA) was published in the Federal Register (Vol 64 pp 66640-66641) on November 29, 1999 announcing the availability of the Draft Fort Bowie NHS General Management Plan/DEIS and solicited comments from the public through January 2000. The final incorporation of public comment is part of the Final Fort Bowie NHS General Management Plan/FEIS and documented in Appendix 3 and published in March 2001. It was made available for public review per the Notice of Availability published in the Federal Register, March 26, 2001 (Vol 66 Number 58 pg 16488).

Conclusion

Alternative A provides the most comprehensive and effective method among the alternatives considered for meeting the National Park Service's purposes, goals, and criteria for managing Fort Bowie National Historic Site and for meeting national environmental policy goals. The selection of Alternative A, as reflected by the analysis contained in the environmental impact statement, would not result in the impairment of park resources and would allow the National Park Service to conserve park resources and provide for their enjoyment by visitors.

Dated: June 18, 2001.
Alan W. Cox,
Superintendent, Fort Bowie National Historic Site, National Park Service.
Dated: June 28, 2001.
William Ladd,
Director, Intermountain Region, National Park Service.

[FR Doc. 01-28712 Filed 11-15-01; 8:45 am]

BILLING CODE 4310-70-P